DEPARTMENT OF VETERANS AFFAIRS

[OMB Control No. 2900-0605]

Agency Information Collection Activity: Application for Accreditation as a Claims Agent or Attorney, Filing of Representatives' Fee Agreements and Motions for Review of Such Fee Agreements

AGENCY: Office of General Counsel, Department of Veterans Affairs.

ACTION: Notice.

SUMMARY: The Office of General Counsel (OGC), Department of Veterans Affairs (VA), is announcing an opportunity for public comment on the proposed collection of certain information by the agency. Under the Paperwork Reduction Act (PRA) of 1995, Federal agencies are required to publish notice in the Federal Register concerning each proposed collection of information, including each proposed extension of a currently approved collection, and allow 60 days for public comment in response to the notice.

DATES: Written comments and recommendations on the proposed collection of information should be received on or before September 23, 2019.

ADDRESSES: Submit written comments on the collection of information through Federal Docket Management System (FDMS) at www.Regulations.gov or to Jonathan Taylor, Office of General Counsel (022D), Department of Veterans Affairs, 810 Vermont Avenue NW, Washington, DC 20420 or email to jonathan.taylor2@va.gov. Please refer to “OMB Control No. 2900-0605” in any correspondence. During the comment period, comments may be viewed online through FDMS.

FOR FURTHER INFORMATION CONTACT: Jonathan Taylor at (202) 461-7699 or FAX (202) 273-6404.

SUPPLEMENTARY INFORMATION: Under the PRA of 1995, Federal agencies must obtain approval from the Office of Management and Budget (OMB) for each collection of information they conduct or sponsor. This request for comment is being made pursuant to Section 3506(c)(2)(A) of the PRA.

With respect to the following collection of information, OGC invites comments on: (1) Whether the proposed collection of information is necessary for the proper performance of OGC's functions, including whether the information will have practical utility; (2) the accuracy of OGC's estimate of the burden of the proposed collection of information; (3) ways to enhance the quality, utility, and clarity of the information to be collected; and (4) ways to minimize the burden of the collection of information on respondents, including through the use of automated collection techniques or the use of other forms of information technology.

Authority: 38 U.S.C. 5901, 5904; 38 CFR 14.629, 14.636.

Title: Application for Accreditation as a Claims Agent or Attorney, Filing of Representatives' Fee Agreements and Motions for Review of Such Fee Agreements.

OMB Control Number: 2900-0605.

Type of Review: Reinstatement of a previously approved collection.

Abstract: Applicants seeking accreditation as claims agents or attorneys to represent benefits claimants before VA must complete VA Form 21a. The applicant is required to file the application with OGC to establish initial eligibility for accreditation. The information requested includes basic identifying information, as well as certain information concerning training and experience, military service, and employment. The information is used to evaluate qualifications, ensure against conflicts of interest, and to establish that statutory and regulatory eligibility requirements, e.g., good character and reputation, are met. If a potential area of concern is identified on the application, additional information may be requested. Applicants who become accredited as agents and attorneys may not lawfully represent claimants without completing and maintaining accreditation requirements. The data is used to determine the applicant's eligibility for accreditation as a claims agent or attorney. The information collected with regard to an attorney or agent's good standing with other courts, bars, and Federal and State agencies and completion of their ongoing CLE requirements is used by OGC in monitoring accredited attorneys and agents to determine whether they continue to have the appropriate character and reputation and that they remain fit to prepare, present, and prosecute VA benefit claims.

The data collected under Filing of Representatives' Fee Agreements is used by OGC to associate the fee agreement with the attorney or agent of record and for potential use in a reasonableness review. The fee agreement information is used by VA's Veterans Benefits Administration (VBA) to associate the fee agreement with the claimant's claims file for potential use in processing as the direct payment of a fee from the claimant's past-due benefits award. The information provided in the fee agreements are used by both VBA and OGC to determine whether they are in compliance with the statutes and regulations governing paid representation. The data collected under Motions for Review of Such Fee Agreements is used when a motion is filed by a claimant or raised sua sponte by VA to determine the reasonableness of an agent or attorney fee from a claimant's award of VA benefits. Also, when a claimant receives an award of benefits and has retained more than one attorney or agent who has been found eligible for direct payment of fees, the data is used to determine each of the attorney's or agent's contribution to and responsibility for the ultimate outcome of the claimant's claim.

Affected Public: Individuals and businesses or other for-profit organizations.

Estimated Annual Burden:

a. Application for Accreditation as a Claims Agent, VA Form 21a: 2,137.5 hours (975 hours for initial responses by attorneys, 225 hours for initial responses by non-attorneys, 187.5 hours for follow up responses by non-attorneys, and 750 hours for recertifications by accredited attorneys and agents)

b. Filing of Representatives' Fee Agreements: 3,125 hours (750 hours for first time filers and 2,375 hours for repeat filers).

c. Motions for Review of Such Fee Agreements: 420 hours.

Estimated Average Burden per Respondent:

a. Application for Accreditation as a Claims Agent or Attorney, VA Form 21a: 20 minutes (45 minutes for initial responses by attorneys, 45 minutes for initial responses by non-attorneys, 45 minutes for follow up responses by non-attorneys, and 10 minutes for recertifications by accredited attorneys and agents)

b. Filing of Representatives' Fee Agreements: 13 minutes (1 hour for first time filers and 10 minutes for repeat filers).

c. Motions for Review of Such Fee Agreements: 2 hours.

Frequency of Response: One time.

Estimated Number of Respondents:

a. Application for Accreditation as a Claims Agent, VA Form 21a: 6,350 (1,300 initial responses by attorneys, 300 initial responses by non-attorneys, 250 follow up responses by non-attorneys, and 4,500 recertifications by accredited attorneys and agents).

b. Filing of Representatives' Fee Agreements: 15,000 (750 first time filers and 14,250 repeat filers).

c. Motions for Review of Such Fee Agreements: 210.

By direction of the Secretary.
Danny S. Green,
VA Interim Clearance Officer, Office of Quality, Performance and Risk, Department of Veterans Affairs.

[FR Doc. 2019-15783 Filed 7-24-19; 8:45 am]

BILLING CODE 8320-01-P